DEPARTMENT OF ENERGY

Federal Energy Regulatory Commission

[Docket No. RP99-176-019]

Natural Gas Pipeline Company of America; Notice of Proposed Change in FERC Gas Tariff

May 5, 2000.

Take notice that on May 2, 2000, Natural Gas Pipeline Company of America (Natural) tendered for filing to be a part of its FERC Gas Tariff, Sixth Revised Volume No. 1, Original Sheet No. 26K, to be effective May 1, 2000.

Natural states that the purpose of this filing is to implement a negotiated rate transaction with Central Illinois Light Company (CILCO) under Rate Schedule FTS pursuant to Section 49 of the General Terms and Conditions of Natural's Tariff.

Natural further states that this transaction is being filed in accordance with the Commission's ruling that a transportation rate inclusive of surcharges would be considered a negotiated rate transaction.

Natural requests waiver of section 49.1(e) of the General Terms and Conditions of its Tariff and of the Commission's Regulations, including the 30-day notice requirement of section 154.207, to the extent necessary to permit Original Sheet No. 26K to become effective May 1, 2000.

Natural states that copies of the filing are being mailed to its customers, interested state commissions and all parties set out on the Commission's official service list in Docket No. RP99-176.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11778 Filed 5-10-00; 8:45 am]

BILLING CODE 6717-01-M